DEPARTMENT OF TRANSPORTATION

Pipeline and Hazardous Materials Safety Administration

[Docket No. PHMSA-98-4470]

Pipeline Safety: Meeting of the Technical Hazardous Liquid Pipeline Safety Standards Committee

AGENCY: Pipeline and Hazardous Materials Safety Administration (PHMSA), U.S. Department of Transportation (DOT).

ACTION: Notice of meeting.

SUMMARY: This notice announces a public meeting of PHMSA's Technical Hazardous Liquid Pipeline Safety Standards Committee (THLPSSC). The THLPSSC will vote on a proposal to extend pipeline safety regulations to certain unregulated hazardous liquid gathering lines and low-stress pipelines and on a supplemental proposal addressing new requirements for low-stress pipelines in the Pipeline Inspection, Protection, Enforcement, and Safety Act of 2006 (PIPES Act). PHMSA will also consult with the THLPSSC on a concept addressing internal corrosion.

DATES: The meeting will be on Tuesday, July 24, 2007, from 1 p.m. to 4 p.m. EST.

ADDRESSES: The THLPSSC will participate by telephone conference call. The public may attend the meeting at the U.S. Department of Transportation, 1200 New Jersey Avenue, SE., East Building, Second Floor, Washington, DC 20590, Room E27-302.

FOR FURTHER INFORMATION CONTACT: Cheryl Whetsel at (202) 366-4431, or by e-mail at cheryl.whetsel@dot.gov.

SUPPLEMENTARY INFORMATION:

I. Meeting Details

PHMSA will post additional information or changes approximately 15 days before the meeting on its Web site: http://www.phmsa.dot.gov.

Members of the public may attend and they may also make an oral statement during the meeting. To make an oral statement, you may contact Cheryl Whetsel before July 17. Please note that the meeting's presiding officer may deny any non-scheduled request to make an oral statement and may also limit the time of any speaker.

Comments regarding this meeting should reference Docket No. PHMSA-98-4470 and may be submitted in the following ways:

• DOT Web site: http://dms.dot.gov. To submit comments on the DOT electronic docket Web site, click “Comment/Submissions,” click “Continue,” fill in the requested information, click “Continue,” enter your comment, then click “Submit.”

• Fax: 1-202-493-2251.

• Mail: Docket Management System: U.S. Department of Transportation, Docket Operations, M-30, Room W12-140, 1200 New Jersey Avenue, SE., Washington, DC 20590-0001.

• Hand Delivery: DOT Docket Management System, West Building Ground Floor, Room W12-140, 1200 New Jersey Avenue, SE., Washington, DC 20590-0001 between 9 a.m. and 5 p.m., Monday through Friday, except Federal holidays.

• E-Gov Web site: http://www.regulations.gov. This Web site allows the public to enter comments on any Federal Register notice issued by any agency.

Instructions: Identify the docket number, PHMSA-98-4470, at the beginning of your comments. If you submit your comments by mail, submit two copies. To receive confirmation that PHMSA received your comments, include a self-addressed stamped postcard. Internet users may submit comments at http://www.regulations.gov, and may access all comments received by DOT at http://dms.dot.gov by performing a simple search for the docket number.

Note: All comments are posted without changes or edits to http://dms.dot.gov, including any personal information provided.

Privacy Act Statement: Anyone can search the electronic form of all comments received in response to any of our dockets by the name of the individual submitting the comment (or signing the comment, if submitted on behalf of an association, business, labor union, etc.). DOT's complete Privacy Act Statement was published in the Federal Register on April 11, 2000 (65 FR 19477), and is on the Web at http://dms.dot.gov.

Information on Services for Individuals with Disabilities: For information on facilities or services for individuals with disabilities, or to request special assistance at the meeting, please contact Cheryl Whetsel at (202) 366-4431 by July 17.

II. Committee Background

The THLPSSC is a statutorily mandated advisory committee that advises PHMSA on proposed safety standards for hazardous liquid pipelines. The THLPSSC is established under section 10(a)(2) of the Federal Advisory Committee Act (Pub. L. 92-463, 5 U.S.C. App. 1) and the Pipeline Safety Law (49 U.S.C. Chap. 601). The THLPSSC consists of 15 members, five each representing government, industry, and the public.

The Pipeline Safety Law requires PHMSA to seek the THLPSSC's advice on the reasonableness, cost-effectiveness, and practicability of each proposed pipeline safety standard. The Pipeline Safety Law also requires PHMSA to submit the cost-benefit analysis and risk assessment information associated with the proposed standard to the THLPSSC. The THLPSSC evaluates the merits of the data and provides recommendations on the adequacy of the analyses.

III. Preliminary Meeting Schedule

The THLPSSC will discuss and vote on a proposal to extend pipeline safety regulations to certain unregulated hazardous liquid gathering lines and low-stress pipelines and on a supplemental proposal addressing new requirements in the PIPES Act. This supplemental proposal would apply all Federal hazardous liquid pipeline safety regulations to currently unregulated low-stress pipelines meeting certain criteria. These proposals will help protect unusually sensitive areas from the potential adverse impacts of releases from unregulated hazardous liquid pipelines in rural areas. PHMSA will also seek the THLPSSC's recommendations on a concept to address internal corrosion issues in hazardous liquid pipelines.

Authority: 49 U.S.C. 60102, 60115.

Issued in Washington, DC on June 22, 2007.
Jeffrey D. Wiese,
Acting Associate Administrator for Pipeline Safety.

[FR Doc. E7-12573 Filed 6-27-07; 8:45 am]

BILLING CODE 4910-60-W-P